CONSUMER PRODUCT SAFETY COMMISSION

[Docket No. CPSC-2012-0055]

Agency Information Collection Activities; Submission for OMB Review; Comment Request; Flammability Standards for Children's Sleepwear

AGENCY: U.S. Consumer Product Safety Commission.

ACTION: Notice.

SUMMARY: As required by the Paperwork Reduction Act of 1995, the Consumer Product Safety Commission (CPSC or Commission), announces that the Commission has submitted to the Office of Management and Budget (OMB) a request for extension of approval for a collection of information associated with the Standard for the Flammability of Children's Sleepwear: Sizes 0 Through 6X and the Standard for the Flammability of Children's Sleepwear: Sizes 7 Through 14, approved previously under OMB Control No. 3041-0027. On May 11, 2022, CPSC published a notice in the Federal Register announcing the agency's intent to seek this extension. CPSC received no comments in response to that notice. Therefore, by publication of this notice, the Commission announces that CPSC has submitted to the OMB a request for extension of approval of this collection of information.

DATES: Written comments on this request for extension of approval of information collection requirements should be submitted by August 26, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2012-0055.

FOR FURTHER INFORMATION CONTACT: Cynthia Gillham, Consumer Product Safety Commission, 4330 East West Highway, Bethesda, MD 20814; (301) 504-7991, or by email to: cgillham@cpsc.gov.

SUPPLEMENTARY INFORMATION: On May 11, 2022, CPSC published a notice in the Federal Register announcing the agency's intent to seek an extension for this information collection. 87 FR 28817. CPSC received no comments in response to that notice. Accordingly, CPSC seeks to renew the following currently approved collection of information:

Title: Standard for the Flammability of Children's Sleepwear: Sizes 0 Through 6X; and the Standard for the Flammability of Children's Sleepwear: Sizes 7 Through 14.

OMB Number: 3041-0027.

Type of Review: Renewal of collection.

Frequency of Response: On occasion.

Affected Public: Manufacturers and importers of children's sleepwear.

Estimated Number of Respondents: Based on a review of past inspections and published industry information, CPSC staff estimates that there could be as many as 866 domestic children's apparel manufacturers in the United States subject to the rule. However, not all these manufacturers will produce children's sleepwear. Therefore, this figure is likely an overestimate of the actual number of firms performing tests and creating records in any given year. Furthermore, using the Harmonized Tariff System (HTS) codes for children's sleepwear, CPSC staff found approximately 3,641 importers that supply children's sleepwear to the U.S. market. Many of the 866 domestic manufacturers, along with many large U.S. retailers, may be among the importers. However, if all 866 U.S. producers and, in addition, all 3,641 importers did introduce new children's sleepwear garments each year, the total number of firms subject to the CPSC recordkeeping requirements each year would be 4,507 (866 + 3,641). As noted, the actual number of firms is likely lower.

Estimated Time per Response: Testing and recordkeeping of each sleepwear item is approximately 3 hours.

Total Estimated Annual Burden: The 50 largest domestic manufacturers and the 100 largest importers may each introduce an average of 100 new children's sleepwear items annually. The annual burden for the 50 large domestic manufacturers and the 100 largest importers is estimated at 45,000 hours for testing and recordkeeping (150 firms × 100 items × 3 hours). Without adjusting for possible double-counting, CPSC staff estimates that the remaining 816 manufacturers and 3,541 importers may each introduce an average of 10 new children's sleepwear items, for a total testing and recordkeeping burden of 130,710 hours (4,357 × 10 items × 3 hours.) Therefore, the total estimated potential annual burden imposed by the standard and regulations on all manufacturers and importers of children's sleepwear will be about 175,710 hours (45,000 + 130,710). The annual cost to the industry is estimated to be $12,369,984 based on an hourly wage of $70.40 × 175,710 hours.¹

¹ See Table 4: Employer Costs for Employee Compensation News Release—2021 Q04 Results (bls.gov).

Description of Collection: The Standard for the Flammability of Children's Sleepwear: Sizes 0 through 6X (16 CFR part 1615) and the Standard for the Flammability of Children's Sleepwear: Sizes 7 through 14 (16 CFR part 1616) address the fire hazard associated with small-flame ignition sources for children's sleepwear manufactured for sale in, or imported into, the United States. The standards also require manufacturers and importers of children's sleepwear to collect information resulting from product testing, and maintenance of the testing records. 16 CFR part 1615, subpart B; 16 CFR part 1616; subpart B.

Alberta E. Mills,
Secretary, Consumer Product Safety Commission.

[FR Doc. 2022-16087 Filed 7-26-22; 8:45 am]

BILLING CODE 6355-01-P